DEPARTMENT OF COMMERCE

Foreign-Trade Zones Board

[B-55-2019]

Foreign-Trade Zone 265—Conroe, Texas; Application for Expansion

An application has been submitted to the Foreign-Trade Zones (FTZ) Board by the City of Conroe, grantee of FTZ 265, requesting authority to expand FTZ 265 to include additional acreage in Conroe, Texas. The application was submitted pursuant to the provisions of the Foreign-Trade Zones Act, as amended (19 U.S.C. 81a-81u), and the regulations of the FTZ Board (15 CFR part 400). It was formally docketed on September 16, 2019.

FTZ 265 was approved on September 16, 2005 (Board Order 1410, 70 FR 57557-57558, October 3, 2005). The zone currently consists of the following site: Site 1 (438 acres)—Conroe Park North located on FM 3083 (one mile east of Interstate 45) in Conroe.

The applicant is requesting authority to expand Site 1 of the zone to include an additional 1,046 acres at the industrial park. No authorization for production activity is being requested at this time. Such requests would be made to the FTZ Board on a case-by-case basis.

In accordance with the FTZ Board's regulations, Camille Evans of the FTZ Staff is designated examiner to evaluate and analyze the facts and information presented in the application and case record and to report findings and recommendations to the FTZ Board.

Public comment is invited from interested parties. Submissions shall be addressed to the FTZ Board's Executive Secretary and sent to: ftz@trade.gov. The closing period for their receipt is November 22, 2019. Rebuttal comments in response to material submitted during the foregoing period may be submitted during the subsequent 15-day period to December 9, 2019.

A copy of the application will be available for public inspection in the “Reading Room” section of the FTZ Board's website, which is accessible via www.trade.gov/ftz.

For further information, contact Camille Evans at Camille.Evans@trade.gov or (202) 482-2350.

Dated: September 17, 2019.
Andrew McGilvray,
Executive Secretary.

[FR Doc. 2019-20516 Filed 9-20-19; 8:45 am]

BILLING CODE 3510-DS-P